DEPARTMENT OF HEALTH AND HUMAN SERVICES

Health Resources and Services Administration

Agency Information Collection Activities: Proposed Collection: Public Comment Request; Information Collection Request Title: Initial and Reconciliation Application Forms To Report Graduate Medical Education Data and Full-Time Equivalent (FTE) Residents Trained by Hospitals Participating in the Children's Hospitals Graduate Medical Education (CHGME) Payment Program; and FTE Resident Assessment Forms To Report FTE Residents Trained by Organizations Participating in the CHGME Payment Program and the Teaching Health Center Graduate Medical Education (THCGME) Program, OMB No. 0915-0247—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 28, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Initial and Reconciliation Application Forms to Report Graduate Medical Education Data and FTE Residents Trained by Hospitals Participating in the CHGME Payment Program; and FTE Resident Assessment Forms to Report FTE Residents Trained by Organizations Participating in the CHGME Payment Program and the THCGME Program, OMB No. 0915-0247—Revision.

Abstract: The Healthcare Research and Quality Act of 1999 (Pub. L. 106-129) established the CHGME Payment Program, Section 340E of the Public Health Service Act, most recently amended by the Dr. Benjy Frances Brooks Children's Hospital Graduate Medical Education (GME) Support Reauthorization Act of 2018 (Pub. L. 115-241). In 2010, the Patient Protection and Affordable Care Act (Pub. L. 111-148) established the THCGME Program, Section 340H of the Public Health Service Act. The CHGME Payment Program and the THCGME Program provide federal funding to support GME programs that train medical and dental residents and fellows. Specifically, the CHGME Payment Program supports residency programs at freestanding children's hospitals that train residents in pediatric, pediatric subspecialty, and non-pediatric care. The THCGME Program supports training for primary care residents/fellows (in family medicine, internal medicine, pediatrics, internal medicine-pediatrics, obstetrics and gynecology, psychiatry, general dentistry, pediatric dentistry, and geriatrics) in community-based ambulatory patient care settings.

Children's hospitals and teaching health centers funded by HRSA's CHGME and THCGME programs, respectively, are required to report the number of FTE residents trained during the federal fiscal year. HRSA contracts fiscal intermediaries to assess FTE resident counts reflected in participating children's hospitals and teaching health centers' applications to determine any changes to the resident FTE counts initially reported. Fiscal intermediaries audit the data reported by the children's hospitals and the teaching health centers and report the verified FTE resident counts to HRSA. Evaluating the data from children's hospital and teaching health center ensures compliance with Medicare regulations and HRSA program requirements when determining the number of FTE residents eligible for funding.

HRSA plans to submit an ICR because the current OMB clearance for the CHGME Payment Program application and the FTE resident assessment forms and exhibits used by both the CHGME Payment Program and the THCGME Program expired on January 31, 2025. All CHGME Payment Program application and the FTE resident assessment forms and exhibits used by both the CHGME Payment Program and THCGME Program are the same as currently approved.

Need and Proposed Use of the Information: Information collected will be used during the CHGME Payment Program initial application process and the reconciliation process for both the CHGME Payment Program and the THCGME Program to calculate the amount of graduate medical education payments that should be distributed to participating children's hospitals and teaching health centers. The CHGME Payment Program application forms and the FTE resident assessment forms for both the CHGME Payment Program and THCGME Program will also be used to confirm the eligibility of the applicant children's hospitals, determine the number of FTE residents trained by participants in the CHGME Payment Program and THCGME Program, and determine their compliance with the programs' requirements.

Likely Respondents: CHGME Payment Program applicants, CHGME Payment Program participants, and fiscal intermediaries auditing data submitted by the participating children's hospitals and teaching health centers.

Burden Statement: Burden in this context means the time expended by persons to generate, maintain, retain, disclose, or provide the information requested. This includes the time needed to review instructions; to develop, acquire, install, and utilize technology and systems to collect, validate, and verify information; process and maintain information, and disclose and provide information; to train personnel and to be able to respond to a collection of information; to search data sources; to complete and review the collection of information; and to transmit or otherwise disclose the information. The total annual burden hours estimated for this ICR are summarized in the table below.

CHGME participating children's hospitals report their FTE residents using forms and exhibits approved by OMB (#0915-0247). THCGME participating teaching health centers report their FTE residents using forms, tools, and exhibits approved by OMB (#0915-0342 and #0915-0367). The FTE resident assessment forms and exhibits currently approved for use by the CHGME Payment Program under OMB clearance #0915-0247 will be reviewed or completed by the fiscal intermediaries during the audit of the FTE residents reported by the teaching health centers participating in the THCGME Program. The FTE resident assessment forms and exhibits are submitted to HRSA for approval. The fiscal intermediaries currently reviewing or completing the forms and exhibits during the audit of children's hospitals will use the same forms and exhibits during the audit of teaching health centers.

Total estimated annualized burden hours: form name | Number of respondents | Number of responses per respondent | Total responses | Average burden per response (in hours) | Total burden hours
Application Cover Letter (CHGME Initial and Reconciliation) | 60 | 2 | 120 | 0.33 | 39.6
HRSA 99 Form (CHGME Initial and Reconciliation) | 60 | 2 | 120 | 0.33 | 39.6
HRSA 99-1 Form (CHGME Initial) | 60 | 1 | 60 | 26.50 | 1,590.0
HRSA 99-1 Form (CHGME Reconciliation) | 60 | 1 | 60 | 6.50 | 390.0
HRSA 99-1 (Supplemental) (CHGME FTE Resident Assessment Only) | 30 | 2 | 60 | 3.67 | 220.2
HRSA 99-2 Form (CHGME Initial) | 60 | 1 | 60 | 11.33 | 679.8
HRSA 99-2 Form (CHGME Reconciliation) | 60 | 1 | 60 | 3.67 | 220.2
HRSA 99-4 Form (CHGME Reconciliation) | 60 | 1 | 60 | 12.50 | 750.0
HRSA 99-5 Form (Initial and Reconciliation) | 60 | 2 | 120 | 0.33 | 39.6
CFO Form Letter (CHGME Initial and Reconciliation) | 60 | 2 | 120 | 0.33 | 39.6
Exhibit 2 (CHGME Initial and Reconciliation) | 60 | 2 | 120 | 0.33 | 39.6
Exhibit 3 (CHGME Initial and Reconciliation) | 60 | 2 | 120 | 0.33 | 39.6
Exhibit 4 (CHGME Initial and Reconciliation) | 60 | 2 | 120 | 0.33 | 39.6
Conversation Record (CHGME FTE Resident Assessment Only) | 30 | 2 | 60 | 3.67 | 220.2
Exhibit C (CHGME and THCGME FTE Resident Assessment) | 30 | 4 | 120 | 3.67 | 440.4
Exhibit E (CHGME and THCGME FTE Resident Assessment) | 30 | 4 | 120 | 3.67 | 440.4
Exhibit F (CHGME and THCGME FTE Resident Assessment) | 30 | 4 | 120 | 3.67 | 440.4
Exhibit N (CHGME and THCGME FTE Resident Assessment) | 30 | 4 | 120 | 3.67 | 440.4
Exhibit O(1) (CHGME and THCGME FTE Resident Assessment) | 30 | 4 | 120 | 3.67 | 440.4
Exhibit O(2) (HRSA 99-1) (CHGME FTE Resident Assessment Only) | 30 | 2 | 60 | 26.5 | 1590.0
Exhibit P (Reconciliation Tool) (CHGME and THCGME FTE Resident Assessment) | 30 | 4 | 120 | 3.67 | 440.4
Exhibit P(2) (CHGME and THCGME FTE Resident Assessment) | 30 | 4 | 120 | 3.67 | 440.4
Exhibit S (CHGME and THCGME FTE Resident Assessment) | 30 | 4 | 120 | 3.67 | 440.4
Exhibit T (CHGME FTE Resident Assessment Only) | 30 | 2 | 60 | 3.67 | 220.2
Exhibit T(1) (CHGME FTE Resident Assessment Only) | 30 | 2 | 60 | 3.67 | 220.2
Exhibit 1 (CHGME FTE Resident Assessment Only) | 30 | 2 | 60 | 0.33 | 19.8
Exhibit 2 (CHGME FTE Resident Assessment Only) | 30 | 2 | 60 | 0.33 | 19.8
Exhibit 3 (CHGME FTE Resident Assessment Only) | 30 | 2 | 60 | 0.33 | 19.8
Exhibit 4 (CHGME FTE Resident Assessment Only) | 30 | 2 | 60 | 0.33 | 19.8
Total | * 90 |  | ** 180 |  | 9,980.4
* The total respondents are 90 because children's hospitals (60) and fiscal intermediaries (30) are completing the forms.
** The total responses are 180 because children's hospitals (60), fiscal intermediaries for the CHGME audits (60), and the THCGME audits (60) are completing the forms.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-09518 Filed 5-27-25; 8:45 am]

BILLING CODE 4165-15-P